ENVIRONMENTAL PROTECTION AGENCY

[EPA-HQ-OPP-2018-0008; FRL-9980-25]

Pesticide Product Registration; Receipt of Applications for New Uses

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before August 20, 2018.

ADDRESSES: Submit your comments, identified by the Docket Identification (ID) Number and the File Symbol of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Robert McNally, Biopesticides and Pollution Prevention Division (BPPD) (7511P), main telephone number: (703) 305-7090; email address: BPPDFRNotices@epa.gov, Michael Goodis, Registration Division (RD) (7505P), main telephone number: (703) 305-7090; email address: RDFRNotices@epa.gov. The mailing address for each contact person is: Office of Pesticide Programs, Environmental Protection Agency, 1200 Pennsylvania Ave. NW, Washington, DC 20460-0001.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Registration Applications

EPA has received applications to register new uses for pesticide products containing currently registered active ingredients. Pursuant to the provisions of FIFRA section 3(c)(4) (7 U.S.C. 136a(c)(4)), EPA is hereby providing notice of receipt and opportunity to comment on these applications. Notice of receipt of these applications does not imply a decision by the Agency on these applications.

New Uses

1. EPA Registration Numbers: 100-895, 100-1259, 100-1211. Docket ID number: EPA-HQ-OPP-2018-0143. Applicant: The Interregional Research Project No. 4 (IR-4), Rutgers, The State University of New Jersey, 500 College Road East, Suite 201 W, Princeton, NJ 08540. Active ingredient: Abamectin. Product type: Insecticide. Proposed Use: Carrot, roots; Tropical and subtropical, small fruit, inedible peel, subgroup 24A; Leafy greens, subgroup 4-16A; Leaf petiole vegetable, subgroup 22B; Arugula; Garden cress; Upland cress; Celtuce; Fennel, Florence. Contact: RD.

2. EPA Registration Numbers: 100-895, 100-1259, 100-1211. Docket ID number: EPA-HQ-OPP-2018-0143. Applicant: Syngenta Crop Protection, LLC, P.O. Box 18300 Greensboro, NC 27419. Active ingredient: Abamectin. Product type: Insecticide. Proposed Use: Edible-podded legume vegetable, subgroup 6A; Succulent shelled pea and bean, subgroup 6B; Dried shelled pea and bean, subgroup 6C, except soybean. Contact: RD.

3. EPA Registration Number(s): 264-824, 264-825, and 264-1055. Docket ID number: EPA-HQ-OPP-2017-0531. Applicant: Bayer CropScience LP2, T.W. Alexander Dr., Research Triangle Park, NC 27709. Active ingredient: Prothioconazole. Product type: Fungicide. Proposed Use: Crop group expansion from current use on canola to Crop Subgroup 20A (Rapeseed subgroup). Contact: RD.

4. EPA Registration Number(s): 4787-55, 4787-61, 279-3557, 279-3588, 279-3594, and 279-3596. Docket ID number: EPA-HQ-OPP-2018-0297. Applicant: Cheminova A/S, P.O. Box 9, DK-7620, Lemvig, Denmark and on behalf of FMC Corporation, 2929 Walnut Street, Philadelphia, PA 19104. Active ingredient: Flutriafol. Product type: Fungicide. Proposed Use: Alfalfa, Barley, Corn, and Rice. Contact: (RD).

5. EPA Registration Numbers: 62719-631, 62719-623, 62719-625. Docket ID number: EPA-HQ-OPP-2018-0179. Applicant: The Interregional Research Project No. 4 (IR-4), Rutgers, The State University of New Jersey, 500 College Road East, Suite 201 W, Princeton, NJ 08540. Active ingredient: sulfoxaflor. Product type: Insecticide. Proposed Use: Artichoke, globe; Asparagus; Bushberry, subgroup 13-07B; Caneberry, subgroup 13-07A; Sunflower, subgroup 20B; Fruit, stone, group 12-12; Leafy greens subgroup 4-16A; Leaf petiole vegetable, subgroup 22B; Nut, tree, group 14-12; Vegetable, brassica, head and stem, group 5-16, except cauliflower; Brassica, leafy greens, subgroup 4-16B, except watercress; Celtuce; Fennel, Florence; and Kohlrabi. Contact: RD.

6. EPA Registration Numbers: 68539-3, 68539-4, 68539-7, 68539-9 and 68539-10. Docket ID number: EPA-HQ-OPP-2018-0256. Applicant: Bioworks, Inc. (d/b/a BioWorks), 100 Rawson Rd., Suite 205, Victor, NY 14564. Active ingredients: Trichoderma virens strain G-41 and/or Trichoderma harzianum Rifai strain T-22. Product type: Fungicide. Proposed use: For expanded field and greenhouse uses (e.g., overhead sprinkler chemigation). Contact: BPPD.

7. EPA Registration Number: 68539-8. Docket ID number: EPA-HQ-OPP-2018-0256. Applicant: Bioworks, Inc. (d/b/a BioWorks), 100 Rawson Rd., Suite 205, Victor, NY 14564. Active ingredient: Trichoderma virens strain G-41. Product type: Fungicide. Proposed use: For manufacturing of Trichoderma virens strain G-41 pesticide products with expanded field and greenhouse uses (e.g., overhead sprinkler chemigation). Contact: BPPD.

8. EPA Registration Number: 68539-12. Docket ID number: EPA-HQ-OPP-2018-0256. Applicant: Bioworks, Inc. (d/b/a BioWorks), 100 Rawson Rd., Suite 205, Victor, NY 14564. Active ingredient: Trichoderma harzianum Rifai strain T-22. Product type: Fungicide. Proposed use: For manufacturing of Trichoderma harzianum Rifai strain T-22 pesticide products with expanded field and greenhouse uses (e.g., overhead sprinkler chemigation). Contact: BPPD.

9. EPA Registration Numbers and File Symbol: 71512-26, 71512-27, 71512-GU. Docket ID number: EPA-HQ-OPP-2018-0194. Applicant: ISK Biosciences Corporation, 7470 Auburn Rd, Suite A, Concord, OH, 44077. Active Ingredient: Cyclaniliprole. Product type: Insecticide. Proposed Use: Citrus fruit (crop group 10-10); tuberous & corm vegetables (crop group 1C); and berry & small fruit (crop subgroups 13-07A, 13-07B, 13-07E, except grape, 13-07G). Contact: RD.

10. EPA Registration Number and File Symbols: 71512-27, 71512-GE, 71512-GG. Docket ID number: EPA-HQ-OPP-2018-0194. Applicant: ISK Biosciences Corporation, 7470 Auburn Rd, Suite A, Concord, OH, 44077. Active Ingredient: Cyclaniliprole. Product type: Insecticide. Proposed Use: Indoor & outdoor ornamentals, Christmas trees, non-bearing fruit and nut trees, vines in shade houses, nurseries, and greenhouses. Contact: RD.

11. EPA Registration Number: 74054-1, 66222-47. Docket ID number: EPA-HQ-OPP-2018-0275. Applicant: Makhteshim AGAN of North America, INC., D/B/A/ADAMA, 3120 Highwoods Blvd., Suite 100 Raleigh, NC 27604. Active ingredient: clofentezine. Product type: Insecticide. Proposed use: Guava. Contact: RD.

12. EPA File Symbol: 80286-EA. Docket ID number: EPA-HQ-OPP-2018-0352. Applicant: ISCA Technologies, Inc., 1230 W. Spring St. Riverside, CA 92507. Active Ingredient: Cypermethrin. Product type: insecticide. Proposed use: palm trees (including date palms, coconut palms, oil palms and ornamental palms). Contact: RD.

Authority: 7 U.S.C. 136 et seq.

Dated: June 27, 2018.
Delores Barber,
Director, Information Technology and Resources Management Division, Office of Pesticide Programs.

[FR Doc. 2018-15448 Filed 7-18-18; 8:45 am]

BILLING CODE 6560-50-P